DEPARTMENT OF THE TREASURY

Office of Thrift Supervision

12 CFR Parts 502, 505, 506, 516, 541, 545, 557, 559, 561, 563, 563e, 563g, and 575

[No. 2002-65]

Technical Amendments

AGENCY: Office of Thrift Supervision, Treasury.

ACTION: Final rule.

SUMMARY: The Office of Thrift Supervision (OTS) is amending its regulations to incorporate a number of technical and conforming amendments. They include clarifications, updated statutory and other references, and corrections of typographical errors.

EFFECTIVE DATE: December 23, 2002.

FOR FURTHER INFORMATION CONTACT: Marilyn K. Burton, Senior Paralegal (Regulations), (202) 906-6467, or Karen A. Osterloh, Special Counsel, (202) 906-6639, Regulations and Legislation Division, Chief Counsel's Office, Office of Thrift Supervision, 1700 G Street, NW., Washington, DC 20552.

SUPPLEMENTARY INFORMATION: OTS is amending its regulations to incorporate a number of technical and conforming amendments.

Consistent with section 722 of the Gramm-Leach-Bliley Act, OTS is making changes designed to make its regulations easier to understand. OTS has revised parts 541 and 561 to clearly state that the definitions in these parts apply throughout chapter V, unless another definition is specifically provided.

OTS is also making the following miscellaneous changes:

• Part 502—Assessments and Fees. The final rule corrects a typographical error in § 502.5.

• Part 505—Freedom of Information Act (FOIA). The final rule revises §§ 505.2 to 505.4, which describe the availability of materials under FOIA and the procedures for requests for records and administrative appeals. The final rule indicates that materials are available through the FOIA Office and the Public Reading Room. The final rule also provides that requests for records and administrative appeals of initial determinations to deny records must be submitted to the FOIA Office.

• Part 506—Information Collection Requirements under the Paperwork Reduction Act (PRA). The final rule updates the table displaying the OMB control numbers assigned to various OTS regulations under the PRA by inserting additional references to the control numbers. See 12 CFR 506.1(b).

• Part 516—Application Processing Guidelines and Procedures. The final rule updates § 516.40 to include current addresses for OTS Regional Offices.

• Part 545—Federal Savings Associations—Operations. The final rule corrects a typographical error in § 545.74(b)(2).

• Part 557—Deposits. The final rule corrects a typographical error in § 557.11(b).

• Part 559—Subordinate Organizations. The final rule corrects a citation in § 559.3(e)(2)(ii).

• Part 563—Savings Associations—Operations. The final rule corrects a typographical error in § 563.146.

• Part 563e—Community Reinvestment. The final rule corrects a citation in Appendix A to part 563e—Ratings.

• Parts 563g—Securities Offerings and Part 575—Mutual Holding Companies. The final rule updates citations in §§ 563g.19 and 575.7(c)(1) and (c)(2).

Administrative Procedure Act; Riegle Community Development and Regulatory Improvement Act of 1994

OTS finds that there is good cause to dispense with prior notice and comment on this final rule and with the 30-day delay of effective date mandated by the Administrative Procedure Act.¹ OTS believes that these procedures are unnecessary and contrary to public interest because the rule merely corrects and clarifies existing provisions. Because the amendments in the rule are not substantive, these changes will not detrimentally affect savings associations.

¹ 5 U.S.C. 553.

Section 302 of the Riegle Community Development and Regulatory Improvement Act of 1994 provides that regulations that impose additional reporting, disclosure, or other new requirements may not take effect before the first day of the quarter following publication.² This section does not apply because this final rule imposes no additional requirements and makes only technical changes to existing regulations.

² Pub. L. 103-325, 12 U.S.C. 4802.

Regulatory Flexibility Act

Pursuant to section 605(b) of the Regulatory Flexibility Act,³ the OTS Director certifies that this technical corrections regulation will not have a significant economic impact on a substantial number of small entities.

³ Pub. L. 96-354, 5 U.S.C. 601.

Executive Order 12866

OTS has determined that this rule is not a “significant regulatory action” for purposes of Executive Order 12866.

Unfunded Mandates Reform Act of 1995

OTS has determined that the requirements of this final rule will not result in expenditures by State, local, and tribal governments, or by the private sector, of $100 million or more in any one year. Accordingly, a budgetary impact statement is not required under section 202 of the Unfunded Mandates Reform Act of 1995.

List of Subjects

12 CFR Part 502

Assessments, Federal home loan banks, Reporting and recordkeeping requirements, Savings associations.

12 CFR Part 505

Freedom of information.

12 CFR Part 506

Reporting and recordkeeping requirements.

12 CFR Part 516

Administrative practice and procedure, Reporting and recordkeeping requirements, Savings associations.

12 CFR Parts 541 and 561

Savings associations.

12 CFR Part 545

Accounting, Consumer protection, Credit, Electronic funds transfers, Investments, Reporting and recordkeeping requirements, Savings associations.

12 CFR Part 557

Consumer protection, Reporting and recordkeeping requirements, Savings associations.

12 CFR Part 559

Reporting and recordkeeping requirements, Savings associations, Subsidiaries.

12 CFR Part 563

Accounting, Advertising, Crime, Currency, Investments, Reporting and recordkeeping requirements, Savings associations, Securities, Surety bonds.

12 CFR Part 563e

Community development, Credit, Investments, Reporting and recordkeeping requirements, Savings associations.

12 CFR Part 563g

Reporting and recordkeeping requirements, Savings associations, Securities.

12 CFR Part 575

Administrative practice and procedure, Capital, Holding companies, Reporting and recordkeeping requirements, Savings associations, Securities.

Accordingly, the Office of Thrift Supervision amends title 12, chapter V of the Code of Federal Regulations, as set forth below.

PART 502—ASSESSMENTS AND FEES

1. The authority citation for part 502 continues to read as follows:

Authority: 12 U.S.C. 1462a, 1463, 1467, 1467a.

2. Revise § 502.5(a) to read as follows:

§ 502.5 Who must pay assessments and fees?

(a) Authority. Section 9 of the HOLA, 12 U.S.C. 1467, authorizes the Director to charge assessments to recover the costs of examining savings associations and their affiliates, to charge fees to recover the costs of processing applications and other filings, and to charge fees to cover OTS's direct and indirect expenses in regulating savings associations and their affiliates.

* * * * *

PART 505—FREEDOM OF INFORMATION ACT

3. The authority citation for part 505 continues to read as follows:

Authority: 5 U.S.C. 552; 12 U.S.C. 1462a, 1463, 1464.

4. Revise the second sentence of § 505.2 to read as follows:

§ 505.2 Public Reading Room.

* * * Contact the FOIA Office, Office of Thrift Supervision, 1700 G Street, NW., Washington, DC 20552, or you may visit the Public Reading Room at 1700 G Street, NW., by appointment only. * * *

5. Revise § 505.3 to read as follows:

§ 505.3 Requests for records.

A designated official will make the initial determination under 31 CFR 1.5(g) whether to grant a request for OTS records. Requests may be mailed to: Freedom of Information Act Request, FOIA Office, Office of Thrift Supervision, 1700 G Street, NW., Washington, DC 20552, or marked “FOIA” and delivered in person to the FOIA Office, 1700 G Street, NW., Washington, DC 20552. Requests may also be sent by e-mail or facsimile to the e-mail address and facsimile number in § 505.2 of this part.

6. Revise § 505.4 to read as follows:

§ 505.4 Administrative appeal of initial determination to deny records.

A designated official will make appellate determinations under 31 CFR 1.5(h) with respect to OTS records. Appeals by mail should be addressed to: FOIA Appeals, 1700 G Street, NW., Washington, DC 20552. Appeals may be delivered personally to FOIA Appeals, Office of Thrift Supervision, 1700 G Street, NW., Washington, DC 20552. Appeals may also be sent by e-mail or facsimile to the e-mail address and facsimile number in § 505.2 of this part.

PART 506—INFORMATION COLLECTION REQUIREMENTS UNDER THE PAPERWORK REDUCTION ACT

7. The authority citation for part 506 continues to read as follows:

Authority: 44 U.S.C. 3501 et seq.

8. Amend § 506.1(b) by adding new entries for §§ 551.50, 551.70 through 551.100, 551.140, and 551.150, and by removing “§ 563.1,” and adding in lieu thereof “§ 563.3” to read as follows:

§ 506.1 OMB control numbers assigned pursuant to the Paperwork Reduction Act.

* * * * *

(b) Display.

12 CFR part or section where identified and described | Current OMB control No.
* * * * *
551.50 | 1550-0109
551.70 through 551.100 | 1550-0109
551.140 | 1550-0109
551.150 | 1550-0109
* * * * *
563.3 | 1550-0027
* * * * *

PART 516—APPLICATION PROCESSING PROCEDURES

9. The authority citation for part 516 continues to read as follows:

Authority: 5 U.S.C. 552, 559; 12 U.S.C. 1462a, 1463, 1464, 2901 et seq.

10. Revise § 516.40(a)(2) to read as follows:

§ 516.40 Where do I file my application?

(a) * * *

(2) The addresses of each Regional Office and the states covered by each office are:

Region | Office address | States served
Northeast | Office of Thrift Supervision, 10 Exchange Place, 18th Floor, Jersey City, New Jersey 07302 | Connecticut, Delaware, Maine, Massachusetts, New Hampshire, New Jersey, New York, Ohio, Pennsylvania, Rhode Island, Vermont, West Virginia
Southeast | Office of Thrift Supervision, 1475 Peachtree Street, N.E., Atlanta, Georgia 30309 (Mail to: P.O. Box 105217, Atlanta, Georgia 30348-5217) | Alabama, District of Columnbia, Florida, Georgia, Illinois, Indiana, Kentucky, Maryland, Michigan, North Carolina, Puerto Rico, South Carolina, Virginia, the Virgin Islands.
Midwest | Office of Thrift Supervision, 225 E. John Carpenter Freeway, Suite 500, Irving, Texas 75062-2326 (Mail to: P.O. Box 619027) Dallas/Ft. Worth, Texas 75261-9027) | Arkansas, Iowa, Kansas, Louisiana, Mississippi, Missouri, Nebraska, Oklahoma, Tennessee, Texas, Wisconsin.
West | Office of Thrift Supervision, Pacific Plaza, 2001 Junipero Serra Boulevard, Suite 650, Daly City, California 94014-1976 (Mail to: P.O. Box 7165 San Francisco, California 94120-7165) | Alaska, Arizona, California, Colorado, Guam, Hawaii, Idaho, Montana, Nevada, New Mexico, North Dakota, Northern Mariana Islands, Oregon, South Dakota, Utah, Washington, Wyoming.

* * * * *

PART 541—DEFINITIONS FOR REGULATIONS AFFECTING FEDERAL SAVINGS ASSOCIATIONS

11. The authority citation for part 541 continues to read as follows:

Authority: 12 U.S.C. 1462a, 1463, 1464.

12. Revise § 541.1 to read as follows:

§ 541.1 When do the definitions in this part apply?

The definitions in this part and in 12 CFR part 561 apply throughout this chapter, unless another definition is specifically provided.

PART 545—FEDERAL SAVINGS ASSOCIATIONS—OPERATIONS

13. The authority citation for part 545 continues to read as follows:

Authority: 12 U.S.C. 1462a, 1463, 1464, 1828.

14. Revise § 545.74(b)(2) to read as follows:

§ 545.74 Securities brokerage.

* * * * *

(b) * * *

(2) Payment to any employee of the association of a referral fee, bonus, or any incentive compensation, in cash or in kind, for referring any customer to the service corporation except as may be consistent with a “no-action” letter received by the association from the U.S. Securities and Exchange Commission (“SEC”), stating that the SEC will not recommend enforcement action if association employees receive the planned referral fee but do not register with a broker-dealer and the association does not register as a broker-dealer;

* * * * *

PART 557—DEPOSITS

15. The authority citation for part 557 continues to read as follows:

Authority: 12 U.S.C. 1462a, 1463, 1464.

16. Revise the third sentence of § 557.11(b) to read as follows:

§ 557.11 To what extent does Federal law preempt deposit-related State laws?

* * * * *

(b) * * * Federal savings associations may exercise deposit-related powers as authorized under federal law, including this part, without regard to state laws purporting to regulate or otherwise affect deposit activities, except to the extent provided in § 557.13. * * *

PART 559—SUBORDINATE ORGANIZATIONS

17. The authority citation for part 559 continues to read as follows:

Authority: 12 U.S.C. 1462, 1462a, 1463, 1464, 1828.

18. Revise the chart in the final sentence of § 559.3(e)(2)(ii) to read as follows:

§ 559.3 What are the characteristics of, and what requirements apply to, subordinate organizations of Federal savings associations?

* * * * *

| Operating subsidiary | Service corporation
* * * * * * *
(e) * * * | (1) * * * | (2)(i) * * *
|  | (ii) * * * You may request OTS approval for your service corporation to engage in any other activity reasonably related to the activities of financial institutions, including the activities set forth in § 559.4(b)-(j), by filing an application in accordance with standard treatment processing procedures at part 516, subparts A and E of this chapter.
* * * * * * *

PART 561—DEFINITIONS FOR REGULATIONS AFFECTING ALL SAVINGS ASSOCIATIONS

19. The authority citation for part 561 continues to read as follows:

Authority: 12 U.S.C. 1462, 1462a, 1463, 1464, 1467a.

20. Revise § 561.1 to read as follows:

§ 561.1 When do the definitions in this part apply?

The definitions in this part and in 12 CFR part 541 apply throughout this chapter, unless another definition is specifically provided.

PART 563—SAVINGS ASSOCIATIONS—OPERATIONS

21. The authority citation for part 563 continues to read as follows:

Authority: 12 U.S.C. 375b, 1462, 1462a, 1463, 1464, 1467a, 1468, 1817, 1820, 1828, 1831o, 3806; 42 U.S.C. 4106.

22. Revise the first sentence of § 563.146 to read as follows:

§ 563.146 Will the OTS permit my capital distribution?

The OTS will review your notice or application under the review procedures in 12 CFR part 516, subpart E. * * *

* * * * *

PART 563e—COMMUNITY REINVESTMENT

23. The authority citation for part 563e continues to read as follows:

Authority: 12 U.S.C. 1462a, 1463, 1464, 1467a, 1814, 1816, 1828(c), and 2901 through 2907.

24. Amend appendix A of part 563e by revising paragraph (e)(3)(iii) to read as follows:

Appendix A to Part 563E—Ratings

* * * * *

(e) * * *

(3) * * *

(iii) If the savings association fails to meet substantially its plan goals for a satisfactory rating, OTS will rate the savings association as either “needs to improve” or “substantial noncompliance,” depending on the extent to which it falls short of its plan goals, unless the savings association elected in its plan to be rated otherwise, as provided in § 563e.27(f)(4).

PART 563g—SECURITIES OFFERINGS

25. The authority citation for part 563g continues to read as follows:

Authority: 12 U.S.C. 1462a, 1463, 1464; 15 U.S.C. 78c(b), 78l, 78m, 78n, 78p, 78w.

§ 563g.19 [Amended]

26. Amend § 563g.19 by removing “§ 563.1,” and by adding in lieu thereof “§ 563.3.”

PART 575—MUTUAL HOLDING COMPANIES

27. The authority citation for part 575 continues to read as follows:

Authority: 12 U.S.C. 1462, 1462a, 1463, 1464, 1467a, 1828, 2901.

§ 575.7 [Amended]

28. Amend § 575.7 by removing “§ 563.1” in paragraph (c)(1) and (c)(2) and by adding in lieu thereof “§ 563.3.”

Dated: December 17, 2002.
By the Office of Thrift Supervision
James E. Gilleran,
Director.

[FR Doc. 02-32148 Filed 12-20-02; 8:45 am]

BILLING CODE 6720-01-P